DEPARTMENT OF TRANSPORTATION

Federal Aviation Administration

14 CFR Part 91

[Docket No. FAA-2011-0628]

Clarification of Prior Interpretations of the Seat Belt and Seating Requirements for General Aviation Flights

AGENCY: Federal Aviation Administration (FAA), DOT.

ACTION: Notice of proposed clarification of prior interpretations.

SUMMARY: This action proposes to clarify prior interpretations of the seat belt and seating requirements of 14 CFR 91.107(a)(3). These prior interpretations state that the shared use of a single restraint may be permissible. The proposed clarification states that the use of a seat belt and/or seat by more than one occupant is appropriate only if: The seat belt is approved and rated for such use; the structural strength requirements for the seat are not exceeded; and the seat usage conforms with the limitations contained in the approved portion of the Airplane Flight Manual. The proposed clarification also emphasizes that the proper restraint method for children during operations conducted under part 91 relies on the good judgment of the pilot, who should be intimately aware of the capabilities and structural requirements of the aircraft that he or she is operating.

DATES: Comments must be received on or before August 22, 2011.

ADDRESSES: You may send comments identified by docket number FAA-2011-0628 using any of the following methods:

• Federal eRulemaking Portal: Go to http://www.regulations.gov and follow the online instructions for sending your comments electronically.

• Mail: Send Comments to Docket Operations, M-30; U.S. Department of Transportation, 1200 New Jersey Avenue, SE., West Building Ground Floor, Room W12-140, Washington, DC 20590-0001.

• Hand Delivery: Take comments to Docket Operations in Room W12-140 of the West Building Ground Floor at 1200 New Jersey Avenue, SE., Washington, DC, between 9 a.m. and 5 p.m., Monday through Friday, except Federal holidays.

• Fax: (202) 493-2251.

FOR FURTHER INFORMATION CONTACT: Alex Zektser, Attorney, Regulations Division, Office of Chief Counsel, Federal Aviation Administration, 800 Independence Avenue, SW., Washington, DC 20591; telephone: (202) 267-3073; email: Alex.Zektser@faa.gov.

SUPPLEMENTARY INFORMATION:

Comments Invited

The FAA invites interested persons to submit written comments, data, or views concerning this proposal. The most helpful comments reference a specific portion of the proposal, explain the reason for any recommended change, and include supporting data. To ensure the docket does not contain duplicate comments, please send only one copy of written comments, or if you are filing comments electronically, please submit your comments only one time.

The FAA will file in the docket all comments received, as well as a report summarizing each substantive public contact with FAA personnel concerning this proposal. Before acting on this proposal, the FAA will consider all comments received on or before the closing date for comments and any late-filed comments if it is possible to do so without incurring expense or delay. The FAA may change this proposal in light of comments received.

Availability of This Proposed Clarification of Prior Interpretations

You can get an electronic copy using the Internet by—

(1) Searching the Federal eRulemaking Portal (http://www.regulations.gov);

(2) Visiting the FAA's Regulations and Policies Web page at http://www.faa.gov/regulations_policies/; or

(3) Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number or notice number of this proposal.

Background

On March 22, 2009, a Pilatus PC-12/45 descended and impacted the ground near the approach end of a runway at Bert Mooney Airport in Butte, Montana. After investigating this incident, the National Transportation Safety Board (NTSB) determined the following.

At the time of the impact, the Pilatus PC-12/45 airplane was operating as a personal flight under the provisions of 14 CFR part 91. The pilot and the 13 airplane passengers were killed, and the airplane was destroyed by impact forces and the postcrash fire. Among the 13 passengers were six adults and seven children. Because the flight was a single-pilot operation, eight seats in the cabin and one seat in the cockpit were available to the 13 passengers. Thus, the number of passengers exceeded the number of available seats. The NTSB was unable to determine the original seating position for most of the occupants, but the bodies of four children, ages 3 to 9 years, were found farthest from the impact site, indicating that these children were likely thrown from the airplane because they were unrestrained or improperly restrained. The NTSB noted that if the accident had been less severe and the impact had been survivable, any unrestrained occupant or occupants sharing a single restraint system would have been at a much greater risk of injury or death.

As a result of the March 22, 2009 incident described above, the NTSB has requested that the FAA withdraw its prior interpretations of 14 CFR 91.107(a)(3), which permit the shared use of a single restraint system.

Discussion of the Proposal

In response to the NTSB's request, the FAA proposes to clarify its prior interpretations of 14 CFR 91.107(a)(3) as follows.

For part 91 operations, section 91.107(a)(3) requires that “each person on board a U.S. registered civil aircraft * * * must occupy an approved seat or berth with a safety belt and, if installed, shoulder harness, properly secured about him or her during movement on the surface, takeoff, and landing.” Children under the age of two may be held by an adult who is occupying an approved seat or berth and no restraining device for the child is used. In contrast, for commercial operations under part 121, section 121.311 requires that each person “occupy an approved seat or berth with a separate safety belt properly secured about him.”

When § 121.311 and § 91.107 (previously § 91.14) were first promulgated in 1971, the FAA clarified that the separate use provision for safety belts under part 121 was not intended to apply to part 91 operations. Rather, part 91 “requires only that each person on board occupy a seat or berth with a safety belt properly secured about him.” 36 FR 12511 (July 1, 1971). The FAA has previously interpreted this provision as not requiring separate use of safety belts. See Legal Interpretation 1990-14. At the time, this allowance was permissible because seat belts were generally rated in terms of strength and some were rated for more than one occupant to accommodate side-by-side seating arrangements (i.e., bench seats) in certain aircraft that are commonly used in operations conducted under part 91. Thus, use of a seat belt and seat by more than one occupant may have been appropriate only if: (1) The belt was approved and rated for such use; (2) the structural strength requirements for the seat were not exceeded; and (3) the seat usage conformed with the limitations contained in the approved portion of the Airplane Flight Manual (14 CFR § 23.1581(j)). See 36 FR 12511; see also 14 CFR 23.562, 23.785; Legal Interpretation 1990-14; Legal Interpretation to Mr. C.J. Leonard from Hays Hettinger, Associate Counsel (July 26, 1966). Under the FAA's proposed clarification, seating arrangements that do not comply with the above conditions would not be able to use the FAA's prior interpretations of § 91.107(a)(3) to justify the shared use of a single restraint system.

The FAA also emphasizes that although § 91.107(a)(3) and § 91.205(b)(13), as previously interpreted by the agency, may allow for shared use of a single restraint in certain situations, whether a child should be held, or placed under a safety belt, or allowed to share a single restraint or seat with another occupant during part 91 operations, is a matter of prudent operating practice. The FAA has strongly advocated, and continues to advocate, the use of child restraints such as child safety seats for children who are within the weight restriction of the restraint. See 57 FR 42662, 42664 (Sept. 15, 1992) (allowing the use of child restraint systems in operations conducted under parts 91, 121, 125, 135, and recognizing that the “use of child restraints in an aircraft will provide a level of safety greater than that which would be provided if the young children were held in the arms of adults or if safety belts alone were used”); 70 FR 50902, 50903 (Aug. 26, 2005) (allowing use of child restraint systems that are approved by the FAA); 71 FR 40003, 40005 (July 14, 2006) (allowing use of more types of child restraint systems). The FAA recognizes that properly restraining children on aircraft is difficult because there is a large variance in muscle development, height, weight, and upper body strength. Thus, good judgment of the pilot, who should be intimately aware of the capabilities and structural requirements of the aircraft he or she is operating, is critical in determining the proper method of restraint for children during operations conducted under part 91.

Issued in Washington, DC, on June 17, 2011.
Rebecca B. MacPherson,
Assistant Chief Counsel for Regulations, AGC-200.

[FR Doc. 2011-15709 Filed 6-22-11; 8:45 am]

BILLING CODE 4910-13-P